DEPARTMENT OF COMMERCE

National Technical Information Service

[Docket No. 010719182-1182-01]

RIN 0692-XX08

Information Dissemination Activities; New Method of Disseminating an Information Product

AGENCY: National Technical Information Service, Technology Administration, U.S. Department of Commerce.

ACTION: Notice; Request for comment.

SUMMARY: In accordance with provisions of the Paperwork Reduction Act, NTIS is seeking public comment on its proposal to (a) Make a portion of the NTIS Database available to the public at its web site and (b) assist users in locating free copies of reports described in that portion of the Database.

DATES: Comments must be received not later than September 13, 2001.

ADDRESSES: Comments should be addressed to Mr. Walter L. Finch, Associate Director for Business Development, National Technical Information Service, 5285 Port Royal Road, Springfield, Virginia 22161, or sent by e-mail to wfinch@ntis.gov.

FOR FURTHER INFORMATION CONTACT: Walter L. Finch, (703) 605-6507.

SUPPLEMENTARY INFORMATION: Section 3506(d)(2) of Title 44, United States Code, directs agencies to solicit and consider public input on their dissemination activities. Section 3506(d)(3) of that Title directs them to notify the public when initiating, substantially modifying, or changing an information product. In accordance with those provisions, NTIS is seeking public comment on its proposal to (a) make a portion of the NTIS Database available to the public at its web site and (b) assist users in locating free copies of reports described in that portion of the Database.

NTIS produces a Database of records describing approximately three million scientific and technical reports, most of which were prepared by or for federal agencies. The reports are available from NTIS for sale to the public. The NTIS Database aids the researcher in identifying relevant material by providing essential bibliographic information about each report as well as a detailed abstract of its technical content. Revenue from the sale of the individual reports supports NTIS, which receives no appropriated funds.

The NTIS Database is disseminated to the public through information vendors who typically charge for access to it and such other databases as they may carry. A portion of the fee is returned to NTIS to support the continued development and maintenance of the Database.

NTIS makes the Database available to any vendor under standard terms but does not now provide free public access to it. It does provide a search engine that allows the public to search for titles and topics of all items entered into the Database since 1990, but not the abstracts. Researchers who require full access to the entire Database may purchase an economical one-day pass.

NTIS is proposing to make available at its web site without charge complete bibliographic information, including abstracts, about all technical reports entered into its collection since 1997, when NTIS began scanning all new acquisitions into electronic format. In addition, if the agency that created the document makes it available for downloading at that agency's web site, NTIS expects to provide a cross-link that takes the user to that site. The link will be permanent, ensuring the availability of that document even if the agency that created it moves it or takes it off the Web.

Request for Comments: Persons interested in commenting on the proposed action should submit their comments in writing to the above address. All comments received in response to this notice will become part of the public record and will be available for inspection and copying at the Department of Commerce Central Reference and Records Inspection facility, room 6228, Hoover Building, Washington, D.C. 20230.

Dated: August 2, 2001.
Ron Lawson,
Director.

[FR Doc. 01-20417 Filed 8-13-01; 8:45 am]

BILLING CODE 3510-04-M